DEPARTMENT OF ENERGY

[Solicitation Number DE-SC04-2003AL68471]

National Nuclear Security Administration; Availability of Solicitation for Research and Development for Reduction in Parasitic Energy Losses in Class 3-8 Trucks

AGENCY: National Nuclear Security Administration, Department of Energy.

ACTION: Notice of availability of solicitation.

SUMMARY: The National Nuclear Security Administration (NNSA) Service Center, Albuquerque, NM, is seeking applications for energy efficiency improvements and emissions reduction. Through this solicitation, NNSA seeks to improve the energy efficiency and emissions performance of Class 1-8 trucks through the use of advanced diesel engines, emission control technologies, hybrid electric propulsion systems, and reduction of parasitic energy losses. This solicitation primarily addresses the parasitic (non engine) energy losses that account for about 45% of the total losses in class 7-8 on-highway trucks, and various amounts in class 3-6 trucks, depending on their duty cycle. A NNSA technical panel will perform a scientific and engineering evaluation of each responsive application to determine the merit of the approach. NNSA anticipates issuing one or more financial assistance instruments from this solicitation. Funding in the amount of $2,000,000 for the first year period is anticipated to be available. Cost sharing of 50% by the applicant is required.

DATES: Applications are to be received no later than 4 p.m. local prevailing time on May 1, 2003. Any application received after the due date and time will not be evaluated.

FOR FURTHER INFORMATION CONTACT: Erwin E. Fragua, Contract Specialist, NNSA/OBS, at (505) 845-6442 or by e-mail at efragua@doeal.gov.

SUPPLEMENTARY INFORMATION: The solicitation will be available on the Internet on or about March 10, 2003 at the following Web site: http://e-center.doe.gov. Applications must be prepared and submitted in accordance with the instructions and forms contained in the solicitation. For profit and not-for-profit organizations, state and local governments, Indian tribes, and institutions of higher learning are eligible for awards under this solicitation. Teaming arrangements, led by an industrial partner, are required, especially among tractor and trailer manufacturers, engine manufacturers, and component suppliers to take advantage of the best complementary technologies available. The solicitation number for this action is DE-SC04-2003AL68471.

Issued in Albuquerque, New Mexico, March 4, 2003.
William L. McCullough,
Contracting Officer, Acquisition and Financial Assistance Department, NNSA Service Center.

[FR Doc. 03-6166 Filed 3-13-03; 8:45 am]

BILLING CODE 6450-01-P